DEPARTMENT OF HEALTH AND HUMAN SERVICES

Health Resources and Services Administration

Non-Competitive Program Expansion Supplement for Ryan White HIV/AIDS Part D Program, for Coordinated HIV Services and Access for Women, Infants, Children and Youth

AGENCY: Health Resources and Services Administration (HRSA), Department of Health and Human Services.

ACTION: Notice of a Non-Competitive Program Expansion Supplement to the Ryan White HIV/AIDS Part D Program for Coordinated HIV Services and Access for Women, Infants, Children and Youth.

SUMMARY: The Health Resources and Services Administration (HRSA) will issue a non-competitive program expansion supplement to up to 115 Ryan White HIV/AIDS Part D program grantees to support interventions that will positively impact the HIV health outcomes of women, infants, children, and youth in communities where Part D grantees are located. HRSA will provide such one-time program expansion supplemental awards for Part D grantees, in an amount not to exceed the lesser of $150,000 or 25 percent of each fiscal year (FY) 2014 grant award.

SUPPLEMENTARY INFORMATION: No additional information.

Authority: Section 2671 of the Public Health Service (PHS) Act (42 U.S.C. 300ff-71).

CFDA Number: 93.918.

Project period: The period of support for this award is 11 months. The project period is from August 1, 2014, through June 30, 2015. This is explained below in further detail.

Justification for the Exception to Competition: The programmatic supplements will support the women, infants, children, and youth (WICY) populations served by Part D grantees and are designed to support interventions that will positively impact the HIV health outcomes in Part D grantee communities. The Part D Program Expansion Supplements will fund HIV Care Continuum interventions: (1) To enhance the competencies and skills of the HIV workforce (including health educators, linkage/retention staff, nurses, case managers/care coordinators, etc.) located at the Part D grantee site and partner sites to assist people living with HIV/AIDS (PLWH) in engagement and retention in HIV care; and (2) in medication adherence to achieve viral load suppression. The numbers of PLWH to be impacted include more than 200,000 women, infants, children, and youth that are served by current Part D grantees. All currently funded Part D grantees (115) are eligible for this supplemental funding opportunity and the maximum cumulative total awards will not exceed $12,177,374.

To conform to HRSA's efforts to align project/budget period start dates with the standard quarterly dates, in the FY 2012 re-competition of the entire Part D program, the project period end date was established as June 30, 2015. As a result, the FY 2014 budget period for the Part D program grantees will be 11 months from August 1, 2014, through June 30, 2015.

FOR FURTHER INFORMATION CONTACT: John Fanning, Senior Policy Advisor, Division of Community HIV/AIDS Programs, HAB, HRSA, 5600 Fishers Lane, Rockville, MD 20857, by email jfanning@hrsa.gov, or by phone at (301) 443-8367.

Dated: June 16, 2014.
Mary K. Wakefield,
Administrator.

[FR Doc. 2014-14873 Filed 6-24-14; 8:45 am]

BILLING CODE 4165-15-P